DEPARTMENT OF THE INTERIOR

Bureau of Indian Affairs

Indian Gaming

AGENCY: Bureau of Indian Affairs, Interior.

ACTION: Notice of Class III Gaming Amendment taking effect.

SUMMARY: Notice is given that the Amendment to the Tribal-State gaming compact between the State of California and the Quechan Tribe of the Fort Yuma Indian Reservation is considered approved and is in effect.

DATES: Effective Date: January 17, 2007.

FOR FURTHER INFORMATION CONTACT: George T. Skibine, Director, Office of Indian Gaming, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands.

The compact allows for up to 1,100 gaming devices, adds provisions addressing problem gambling, off reservation traffic impacts and workplace occupational health and safety standards. Finally, the term of the compact is until December 31, 2025. The Amendment, also, authorizes annual payments to the State for geographical exclusivity. The Principal Deputy Assistant Secretary—Indian Affairs, Department of the Interior, through his delegated authority, is publishing notice that the Amendment to the Tribal-State Compact between the State of California and the Quechan Tribe of The Fort Yuma Indian Reservation is now in effect.

Dated: January 4, 2007.
Michael D. Olsen,
Principal Deputy Assistant Secretary—Indian Affairs.

[FR Doc. E7-514 Filed 1-16-07; 8:45 am]

BILLING CODE 4310-4N-P